DEPARTMENT OF ENERGY

Federal Energy Regulatory Commission

[Project No. 2246-102]

Yuba County Water Agency; Notice of Reasonable Period of Time for Water Quality Certification Application

On July 10, 2025, the California State Water Resources Control Board (California SWRCB) submitted to the Federal Energy Regulatory Commission (Commission) notice that it received a request for a Clean Water Act section 401(a)(1) water quality certification as defined in 40 CFR 121.5, from the Yuba County Water Agency, in conjunction with the above captioned project on June 10, 2025. Pursuant to Commissions regulations,¹ we hereby notify the California SWRCB of the following:

¹ 18 CFR 4.201(e).

Date of Receipt of the Certification Request: June 10, 2025.

Reasonable Period of Time to Act on the Certification Request: June 10, 2026.

If the California SWRCB fails or refuses to act on the water quality certification request on or before the above date, then the certifying authority is deemed waived pursuant to section 401(a)(1) of the Clean Water Act, 33 U.S.C. 1341(a)(1).

Dated: August 5, 2025.
Debbie-Anne Reese,
Secretary.

[FR Doc. 2025-15149 Filed 8-8-25; 8:45 am]

BILLING CODE 6717-01-P